DEPARTMENT OF COMMERCE

International Trade Administration

[A-570-164, A-549-849, A-552-839]

Certain Paper Plates From the People's Republic of China, Thailand, and the Socialist Republic of Vietnam: Antidumping Duty Orders

AGENCY: Enforcement and Compliance, International Trade Administration, Department of Commerce.

SUMMARY: Based on affirmative final determinations by the U.S. Department of Commerce (Commerce) and the U.S. International Trade Commission (ITC), Commerce is issuing antidumping duty (AD) orders on certain paper plates (paper plates) from the People's Republic of China (China), Thailand, and the Socialist Republic of Vietnam (Vietnam).

DATES: Applicable March 20, 2025.

FOR FURTHER INFORMATION CONTACT: Toni Page (China); Ted Pearson (Thailand); and Bryan Hansen (Vietnam), AD/CVD Operations, Offices I and VII, Enforcement and Compliance, International Trade Administration, U.S. Department of Commerce, 1401 Constitution Avenue NW, Washington, DC 20230; telephone: (202) 482-1398, (202) 482-2631, and (202) 482-3683, respectively.

SUPPLEMENTARY INFORMATION:

Background

On January 28, 2025, Commerce published in the Federal Register its affirmative final determinations in the less-than-fair-value (LTFV) investigations of paper plates from China, Thailand, and Vietnam.¹ On March 13, 2025, the ITC notified Commerce of its final determinations, pursuant to section 735(d) of the Tariff Act of 1930, as amended (the Act), that an industry in the United States is materially injured, within the meaning of section 735(b)(1)(A)(i) of the Act, by reason of imports of paper plates from China, Thailand, and Vietnam sold at LTFV.² In addition, the ITC found that critical circumstances exist with regard to imports of paper plates from China.³

¹ See Certain Paper Plates From the People's Republic of China: Final Affirmative Determination of Sales at Less Than Fair Value and Final Affirmative Determination of Critical Circumstances, in Part, 90 FR 8271 (January 28, 2025) (China Final Determination); Certain Paper Plates from Thailand: Final Affirmative Determination of Sales at Less Than Fair Value and Final Affirmative Determination of Critical Circumstances, in Part, 90 FR 8262 (January 28, 2025); and Certain Paper Plates From the Socialist Republic of Vietnam: Final Affirmative Determination of Sales at Less Than Fair Value and Final Affirmative Determination of Critical Circumstances, in Part, 90 FR 8265 (January 28, 2025) (Vietnam Final Determination).

² See ITC's Letter, “Investigation Nos. 731-TA-1629-1631, 1633, 1636-1638, and 1640 (Final),” dated March 13, 2025.

³ Id.

Scope of the Orders

The products covered by these orders are paper plates from China, Thailand, and Vietnam. For a complete description of the scope of these orders, see the appendix to this notice.

Antidumping Duty Orders

Based on the above-referenced affirmative final determinations by the ITC that an industry in the United States is materially injured by reason of imports of paper plates from China, Thailand, and Vietnam sold at LTFV, and, in accordance with sections 735(c)(2) and 736 of the Act, Commerce is issuing these AD orders. Because the ITC determined that imports of paper plates from China, Thailand, and Vietnam are materially injuring a U.S. industry, unliquidated entries of such merchandise entered or withdrawn from warehouse for consumption, are subject to the assessment of antidumping duties.

Critical Circumstances—China

In addition, the ITC found that critical circumstances exist with respect to imports from China subject to Commerce's affirmative critical circumstances finding within the meaning of section 735(b)(4)(A) of the Act. As a result of Commerce's affirmative critical circumstances determination, under section 735(a)(3) of the Act, and the ITC's affirmative critical circumstances determination, under section 735(b)(4)(A) of the Act, retroactive duties will be applied to the relevant imports for a period of 90 days prior to the suspension of liquidation (i.e., 90 days prior to the date of publication of the affirmative China Preliminary Determination).⁴ The ITC found that critical circumstances did not exist with respect to Thailand and Vietnam.

⁴ See Certain Paper Plates from the People's Republic of China: Preliminary Affirmative Determination of Sales at Less Than Fair Value, Preliminary Affirmative Determination of Critical Circumstances, in Part, Postponement of Final Determination, and Extension of Provisional Measures, 89 FR 72367 (September 5, 2024) (China Preliminary Determination); see also section 735(c)(4) of the Act; see also SAA at 876 (“If both agencies make affirmative critical circumstances determinations in their final investigations, retroactive duties will be applied for a period ninety days prior to suspension of liquidation.”).

Therefore, in accordance with section 736(a)(1) of the Act, Commerce will direct U.S. Customs and Border Protection (CBP) to assess, upon further instruction by Commerce, antidumping duties on unliquidated entries of paper plates from China. With the exception of entries occurring after the expiration of the provisional measures period and before the publication of the ITC's final affirmative injury determinations, as further described below, antidumping duties will be assessed on unliquidated entries of paper plates from China entered, or withdrawn from warehouse, for consumption on or after June 7, 2024 (i.e., 90 days prior to the date of the publication of the China Preliminary Determination), but before September 5, 2024 (i.e., the date of publication of the China Preliminary Determination).⁵

⁵ See China Preliminary Determination.

Critical Circumstances—Thailand and Vietnam

With respect to the ITC's negative critical circumstances determination on imports of paper plates from Thailand and Vietnam, Commerce will instruct CBP to lift suspension of liquidation and to refund any cash deposits for estimated antidumping duties with respect to entries of the subject merchandise from Thailand and Vietnam entered, or withdrawn from warehouse, for consumption on or after June 7, 2024 (i.e., 90 days prior to the date of the publication of the Thailand Preliminary Determination ⁶ and the Vietnam Preliminary Determination),⁷ but before September 5, 2024 (i.e., the date of publications of the Thailand Preliminary Determination and the Vietnam Preliminary Determination).⁸

⁶ See Certain Paper Plates from Thailand: Preliminary Affirmative Determination of Sales at Less Than Fair Value, Preliminary Affirmative Determination of Critical Circumstances, in Part, and Postponement of Final Determination and Extension of Provisional Measures, 89 FR 72370 (September 5, 2024) (Thailand Preliminary Determination).

⁷ See Certain Paper Plates from the Socialist Republic of Vietnam: Preliminary Affirmative Determination of Sales at Less Than Fair Value, Preliminary Affirmative Determination of Critical Circumstances, in Part, Postponement of Final Determination, and Extension of Provisional Measures, 89 FR 72375 (September 5, 2024) (Vietnam Preliminary Determination).

⁸ See Thailand Preliminary Determination; see also Vietnam Preliminary Determination.

Continuation of Suspension of Liquidation and Cash Deposits

Except as noted in the “Provisional Measures” section of this notice, in accordance with section 736 of the Act, Commerce will instruct CBP to continue to suspend liquidation on all relevant entries of paper plates from China, Thailand, and Vietnam. These instructions suspending liquidation will remain in effect until further notice.

Commerce will also instruct CBP to require cash deposits equal to the estimated weighted-average dumping margins indicated in the tables below. Accordingly, effective on the date of publication in the Federal Register of the notice of the ITC's final affirmative injury determinations, CBP will require, at the same time as importers would normally deposit estimated duties on subject merchandise, a cash deposit equal to the rates listed below. The all-others rate applies to all producers or exporters not specifically listed, as appropriate.

Provisional Measures

Section 733(d) of the Act states that suspension of liquidation pursuant to an affirmative preliminary determination may not remain in effect for more than four months, except where exporters representing a significant proportion of exports of the subject merchandise request that Commerce extend the four-month period to no more than six months. The exporters of paper plates from China, Thailand, and Vietnam all requested Commerce to extend the four-month period to six months in these investigations.⁹

⁹ See China Preliminary Determination, Thailand Preliminary Determination, and Vietnam Preliminary Determination (collectively, Preliminary Determinations).

For Thailand, and certain companies in China and Vietnam, the provisional measures period, beginning on the date of publication of the Preliminary Determinations, ended on March 3, 2025. Therefore, in accordance with section 733(d) of the Act and our practice,¹⁰ Commerce will instruct CBP to terminate the suspension of liquidation and to liquidate, without regard to antidumping duties, unliquidated entries of paper plates from China, Thailand, and Vietnam entered, or withdrawn from warehouse, for consumption after March 3, 2025, the final day on which the provisional measures were in effect, until and through the day preceding the date of publication of the ITC's final affirmative injury determinations in the Federal Register. Suspension of liquidation and the collection of cash deposits will resume on the date of publication of the ITC's final determinations in the Federal Register.

¹⁰ See, e.g., Certain Corrosion-Resistant Steel Products from India, India, the People's Republic of China, the Republic of Korea and Taiwan: Amended Final Affirmative Antidumping Determination for India and Taiwan, and Antidumping Duty Orders, 81 FR 48390, 48392 (July 25, 2016).

For Chinese exporter Fuzhou Hengli Paper Co., Ltd., the provisional measures period began on the date of publication of the China Final Determination. Therefore, for certain entries of subject merchandise exported by Fuzhou Hengli Paper Co., Ltd., in accordance with 735(c)(4)(C) of the Act, Commerce will continue suspension of liquidation of any unliquidated entries of paper plates from China entered, or withdrawn from warehouse, for consumption on or after October 30, 2024, which is 90 days prior to publication of the China Final Determination.

For Vietnamese exporter Go-Pak Paper Products Vietnam Co., Ltd., the provisional measures period began on the date of publication of the Vietnam Final Determination. Therefore, for certain entries of subject merchandise exported by Go-Pak Paper Products Vietnam Co., Ltd., in accordance with 735(c)(4)(C) of the Act, Commerce will continue suspension of liquidation of any unliquidated entries of paper plates from Vietnam entered, or withdrawn from warehouse, for consumption on or after January 28, 2025, which is the date of publication of the Vietnam Final Determination.

Estimated Dumping Margins

The estimated dumping margins are as follows:

China:

Producer | Exporter | Estimated weighted-average dumping margin (percent) | Cash deposit rate (adjusted for subsidy offsets) (percent)
Guangdong Ecosource Environmental Technology Co., Ltd | Fuzhou Hengli Paper Co., Ltd | * 515.40 | 504.86
Ningbo Hongtai Package New Material Technology Co., Ltd | Fuzhou Hengli Paper Co., Ltd | * 515.40 | 504.86
Jinhua P&P Products Co., Ltd | Jinhua P&P Products Co., Ltd | 267.63 | 267.63
Festa Party Products Mfy. (Zhongshan) Co., Ltd | Festa (Guangzhou) Co., Ltd | 267.63 | 267.63
Top Printing Paper Products (Zhongshan) Co., Ltd | Festa (Guangzhou) Co., Ltd | 267.63 | 267.63
Festa Party Products Mfy. (Zhongshan) Co., Ltd | Festa Limited | 267.63 | 267.63
Top Printing Paper Products (Zhongshan) Co., Ltd | Festa Limited | 267.63 | 267.63
Jieyang Weikangda Paper Co., Ltd | Fujian Putian Zhonghao Trade Co., Ltd | 267.63 | 267.63
Dongyang Founder Paper Product Co., Ltd | Fujian Putian Zhonghao Trade Co., Ltd | 267.63 | 267.63
Fuzhou Nicrolandee Arts & Craft Co., Ltd | Fuzhou Nicrolandee Arts & Craft Co., Ltd | 267.63 | 267.63
Zhejiang Lanweier Paper Products Co., Ltd | Hangzhou Enli Paper Products Co. Ltd | 267.63 | 267.63
Landward Color Printing Co., Ltd | Landward Color Printing Co., Ltd | 267.63 | 267.63
Ningbo Hongtai Package New Material Technology Co., Ltd | Ningbo Feisuo Import & Export Co., Ltd | 267.63 | 267.63
Ningbo Homelink Eco-Itech Co., Ltd | Ningbo Homelink Eco-Itech Co., Ltd | 267.63 | 267.63
Ningbo Hongtai Package New Material Technology Co., Ltd | Ningbo Hongtai Package New Material Technology Co., Ltd | 267.63 | 267.63
Ningbo Kosda New Material Technology Co., Ltd | Ningbo Kosda New Material Technology Co., Ltd | 267.63 | 267.63
Ningbo Goldland Industry and Technology Co., Ltd | Ningbo Qtop Import & Export Co., Ltd | 267.63 | 267.63
Zhejiang Lingrong Crafts Co., Ltd | Ningbo Qtop Import & Export Co., Ltd | 267.63 | 267.63
Qingdao Robana Paper Product Co., Ltd | Qingdao Gold Top Trade Co. Ltd | 267.63 | 267.63
Qingdao Wonderful Industry and Trade Co. Ltd | Qingdao Wonderful Industry and Trade Co. Ltd | 267.63 | 267.63
Shandong Boao Package Co., Ltd | Shandong Boao Package Co., Ltd | 267.63 | 267.63
Festa Party Products Mfy. (Zhongshan) Co., Ltd | Xanadu Industrial Limited | 267.63 | 267.63
Top Printing Paper Products (Zhongshan) Co., Ltd | Xanadu Industrial Limited | 267.63 | 267.63
Hangzhou Enli Paper Products Co., Ltd | Yeko Trading Limited | 267.63 | 267.63
China-Wide Entity |  | * 515.40 | 515.40
* Rate based on facts available with adverse inferences.

Thailand AD:

Exporter/producer | Weighted-average dumping margin (percent)
Thai Paper Co., Ltd | 5.57
Nirvana Foods & Commerce International Co., Ltd | 5.57
Pandora Production Co | 5.57
SNC Cup Co., Ltd | 5.57
ABC Digital Technology Co Ltd | * 73.17
Beeconcious Co | * 73.17
Dester Co, Ltd | * 73.17
Pimlapas Printing Co., Ltd | * 73.17
Sincerely Cargo | * 73.17
Thai Coconut Co Ltd | * 73.17
Thai Union Manufacturing Co., Ltd | * 73.17
All Others | 5.57
* Rate based on facts available with adverse inferences.

Vietnam AD:

Exporter | Producer | Weighted-average dumping margin (percent) | Cash deposit rate (adjusted for export subsidy offset) (percent)
Go-Pak Paper Products Vietnam Co., Ltd | Go-Pak Paper Products Vietnam Co., Ltd | 30.42 | 24.89
Vietnam-Wide Entity |  | * 165.27 | 159.74
* Rate based on facts available with adverse inferences.

Establishment of the Annual Inquiry Service Lists

On September 20, 2021, Commerce published the final rule titled “Regulations to Improve Administration and Enforcement of Antidumping and Countervailing Duty Laws” in the Federal Register.¹¹ On September 27, 2021, Commerce also published the notice titled “Scope Ruling Application; Annual Inquiry Service List; and Informational Sessions” in the Federal Register.¹² The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹³

¹¹ See Regulations to Improve Administration and Enforcement of Antidumping and Countervailing Duty Laws, 86 FR 52300 (September 20, 2021) (Final Rule).

¹² See Scope Ruling Application; Annual Inquiry Service List; and Informational Sessions, 86 FR 53205 (September 27, 2021) (Procedural Guidance).

¹³ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the order. Each annual inquiry service list will be saved in ACCESS, under each case number, and under a specific segment type called “AISL-Annual Inquiry Service List.” ¹⁴

¹⁴ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹⁵ Accordingly, as stated above, the petitioners and foreign governments should submit their initial entry of appearance after publication of this notice in order to appear in the first annual inquiry service list for those orders for which they qualify as an interested party. Pursuant to 19 CFR 351.225(n)(3), the petitioners and foreign governments will not need to resubmit their entry of appearance each year to continue to be included on the annual inquiry service list. However, the petitioners and foreign governments are responsible for making amendments to their entries of appearance during the annual update to the annual inquiry service list in accordance with the procedures described above.

¹⁵ See Final Rule, 86 FR at 52335.

Notification to Interested Parties

This notice constitutes the AD orders with respect to paper plates from China, Thailand, and Vietnam pursuant to section 736(a) of the Act. Interested parties can find a list of AD orders currently in effect at https://www.trade.gov/data-visualization/adcvd-proceedings.

These AD orders are published in accordance with section 736(a) of the Act and 19 CFR 351.211(b).

Dated: March 14, 2025.
Christopher Abbott,
Deputy Assistant Secretary for Policy and Negotiations, performing the non-exclusive functions and duties of the Assistant Secretary for Enforcement and Compliance.

Appendix

Scope of the Orders

The merchandise subject to these orders is certain paper plates. Paper plates subject to these orders may be cut from rolls, sheets, or other pieces of paper and/or paper board. Paper plates subject to these orders have a depth up to and including two (2.0) inches, as measured vertically from the base to the top of the lip, or the edge if the plate has no lip. Paper plates subject to these orders may be uncolored, white, colored, or printed. Printed paper plates subject to these orders may have any type of surface finish, and may be printed by any means with images, text and/or colors on one or both surfaces. Colored paper plates subject to these orders may be colored by any method, including but not limited to printing, beater-dyeing, and dip-dyeing. Paper plates covered by these orders may be produced from paper of any type (including, but not limited to, bamboo, straws, bagasse, hemp, kenaf, jute, sisal, abaca, cotton inters and reeds, or from non-plant sources, such as synthetic resin (petroleum)-based resins), may have any caliper or basis weight, may have any shape or size, may have one or more than one section, may be embossed, may have foil or other substances adhered to their surface, and/or may be uncoated or coated with any type of coating.

The paper plates covered by these orders remain covered by the scope of these orders whether imported alone, or in any combination of subject and non-subject merchandise. When paper plates covered by these orders are imported in combination with non-subject merchandise, only the paper plates covered by these orders are subject merchandise.

The paper plates covered by these orders include paper plates matching the above description that have been finished, packaged, or otherwise processed in a third country by performing finishing, packaging, or processing that would not otherwise remove the merchandise from the scope of the investigation if performed in the country of manufacture of the paper plates. Examples of finishing, packaging, or other processing in a third country that would not otherwise remove the merchandise from the scope of the investigation if performed in the country of manufacture of the paper plates include, but are not limited to, printing, application of other surface treatments such as coatings, repackaging, embossing, and application of foil surface treatments.

Excluded from the scope of these orders are paper plates molded or pressed directly from paper pulp (including but not limited to unfelted pulp), which are currently classifiable under subheading 4823.70.0020 of the Harmonized Tariff Schedule of the United States (HTSUS).

Also excluded from the scope of these orders are articles that otherwise would be covered but which exhibit the following two physical characteristics: (a) depth (measured vertically from the base to the top of the lip, or edge if no lip) equal to or greater than 1.25 inches but less than two (2.0) inches, and (b) a base not exceeding five (5.0) inches in diameter if round, or not exceeding 20 square inches in area if any other shape.

Also excluded from the scope of these orders are paper bowls, paper buckets, and paper food containers with closeable lids.

Paper plates covered by these orders are currently classifiable under HTSUS subheading 4823.69.0040. Paper plates covered by these orders also may be classified under HTSUS subheading 4823.61.0040. If packaged with other articles, the paper plates covered by these orders also may be classified under HTSUS subheadings 9505.90.4000 and 9505.90.6000. While the HTSUS subheading(s) are provided for convenience and customs purposes, the written description of the subject merchandise is dispositive.

[FR Doc. 2025-04764 Filed 3-19-25; 8:45 am]

BILLING CODE 3510-DS-P